DEPARTMENT OF JUSTICE

Notice of Lodging of Proposed Consent Judgment Under The Resource Conservation and Recovery Act

On September 30, 2020, the Department of Justice lodged a proposed consent judgment with the United States District Court for the Eastern District of New York in the lawsuit entitled United States of America v. Nassau County, New York, Case No. 2:20-CV-4648.

The United States filed this lawsuit to seek civil penalties and injunctive relief for violations of the Resource Conservation and Recovery Act, 42 U.S.C. 6991e et seq. (“RCRA”). The alleged violations stem from Nassau County's (“Nassau”) failure to comply with RCRA's underground storage tank (“UST”) regulations and with an EPA administrative order that required Nassau to comply with RCRA requirements regarding USTs owned or operated by Nassau at 48 of its facilities. The Consent Judgment requires Nassau to bring its USTs into compliance with the UST regulations, and to install and operate a centralized monitoring system. The Consent Judgment also requires Nassau to pay a civil penalty of $427,500.

The publication of this notice opens a period for public comment on the proposed Consent Judgment. Comments should be addressed to the Assistant Attorney General, Environment and Natural Resources Division, and should refer to Nassau County, New York, Civil Action No. 2:20-CV-4648, D.J. Ref. No. 90-7-1-11455. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Judgment may be examined and downloaded at this Justice Department website: https://www.justice.gov/enrd/consent-decrees. We will provide a paper copy of the Consent Judgment upon written request and payment of reproduction costs. Please mail your request and payment to: Consent Decree Library, U.S. DOJ—ENRD, P.O. Box 7611, Washington, DC 20044-7611.

Please enclose a check or money order for $8.25 (25 cents per page reproduction cost) payable to the United States Treasury.

Henry Friedman,
Assistant Section Chief, Environmental Enforcement Section, Environment and Natural Resources Division.

[FR Doc. 2020-22040 Filed 10-5-20; 8:45 am]

BILLING CODE 4410-15-P